FEDERAL COMMUNICATIONS COMMISSION

[WC Docket No. 03-90; FCC 03-142]

Application by Qwest Communications International, Inc. for Authorization To Provide In-Region, InterLATA Services in Minnesota

AGENCY: Federal Communications Commission.

ACTION: Notice.

SUMMARY: In the document, the Federal Communications Commission (Commission) grants the section 271 application of Qwest Communications International, Inc. for authorization to provide in-region, interLATA services in Minnesota. The Commission grants Qwest's application based on its conclusion that Qwest has satisfied all of the statutory requirements for entry, and fully opened its local exchange markets to competition.

DATES: Effective July 7, 2003.

FOR FURTHER INFORMATION CONTACT: Gail Cohen, Senior Economist, Wireline Competition Bureau, at (202) 418-0939 or via the Internet at gcohen@fcc.gov. The complete text of this Memorandum Opinion and Order is available for inspection and copying during normal business hours in the FCC Reference Information Center, Portals II, 445 12th Street, SW., Room CY-A257, Washington, DC 20554. Further information may also be obtained by calling the Wireline Competition Bureau's TTY number: (202) 418-0484.

SUPPLEMENTARY INFORMATION: This is a summary of the Commission's Memorandum Opinion and Order in WC Docket No. 03-90, FCC 03-142, adopted June 25, 2003 and released June 26, 2003. The full text of this order may be purchased from the Commission's duplicating contractor, Qualex International, Portals II, 445 12th Street, SW., Room CY-B402, Washington, DC 20554, telephone 202-863-2893, facsimile 202-863-2898, or via e-mail qualexint@aol.com. It is also available on the Commission's website at http://www.fcc.gov/Bureaus/Wireline_Competition /in-region_applications.

Synopsis of the Order

1. History of the Application. On March 28, 2003, Qwest filed an application with the Commission, pursuant to section 271 of the Telecommunications Act of 1996, to provide in-region, interLATA service in the state of Minnesota.

2. The State Commission's Evaluation. The Minnesota Public Utilities Commission (Minnesota Commission), following an extensive review process, determined that Qwest satisfied 12 of the 14 checklist items, but did not reach a collective determination with respect to checklist items 2 and 14, pertaining to unbundled network elements (UNEs) and resale, respectively, and public interest issues.

3. The Department of Justice's Evaluation. The Department of Justice filed its evaluation on May 2, 2003, recommending approval of the application, although deferring to the Commission's prior decision regarding the relevance of unfiled interconnection agreements on the section 271 process. The Department of Justice concludes opportunities are available to competing carriers serving business and residential customers, and although only a small portion of residential customers are served via the UNE-Platform, the Department of Justice does not believe there are any material obstacles to such entry.

Primary Issues in Dispute

4. Checklist Item 2—Unbundled Network Elements. Section 251(c)(3) requires incumbent LECs to provide “nondiscriminatory access to network elements on an unbundled basis at any technically feasible point on rates, terms, and conditions that are just, reasonable, and nondiscriminatory.” Based on the evidence in the record, we conclude that Qwest has satisfied the requirements of checklist item 2.

5. Operations Support Systems. The Commission concludes that Qwest meets its obligation to provide access to its OSS—the systems, databases, and personnel necessary to support the network elements or services. Nondiscriminatory access to OSS ensures that new entrants have the ability to order service for their customers and communicate effectively with Qwest regarding basic activities such as placing orders and providing maintenance and repair services for customers. The Commission finds that Qwest provides access to each of the primary OSS functions (pre-ordering, ordering, provisioning, maintenance and repair, and billing, as well as change management and technical assistance), in order for competitive LECs to compete and in accordance with the Act. In particular, although the Minnesota Commission could not reach consensus on this checklist item due to billing issues related to UNE-Star, the Commission concludes that Qwest does provide non-discriminatory access to billing functions in accordance with the Act.

6. UNE Combinations. Pursuant to section 271(c)(2)(B)(ii) a BOC must also provide nondiscriminatory access to network elements in a manner that allows other carriers to combine such elements, and demonstrate that it does not separate already combined elements, except at the specific request of a competing carrier. Based on the evidence in the record, and upon Qwest's legal obligations under interconnection agreements, Qwest demonstrates that it provides to competitors combinations of already-combined network elements as well as nondiscriminatory access to unbundled network elements in a manner that allows competing carriers to combine those elements themselves.

7. Pricing of Unbundled Network Elements. The Commission finds, as did the Minnesota Commission, that Qwest's UNE rates in Minnesota are just, reasonable, and nondiscriminatory as required by section 252(d)(1). Thus, Qwest's UNE rates in Minnesota satisfy checklist item 2.

Other Checklist Items.

8. Checklist Item 1—Interconnection. Based on the evidence in the record, the Commission finds that Qwest demonstrates that it provides access and interconnection on terms and conditions that are just, reasonable and nondiscriminatory, in accordance with the requirements of section 251(c)(2), and as specified in section 271, and applied in the Commission's prior orders.

9. Checklist Item 4—Unbundled Local Loops. The Commission concludes that Qwest provides unbundled local loops in accordance with the requirements of section 271 and our rules. The Commission's conclusion is based on its review of Qwest's performance for all loop types—which include voice grade loops, xDSL-capable loops, and high capacity loops—as well as hot cut provisioning and our review of Qwest's processes for line sharing and line splitting. As of December 31, 2002, competitors have acquired from Qwest and placed into use approximately 106,827 stand-alone unbundled loops in Minnesota.

10. Checklist Item 14—Resale. Section 271(c)(2)(B)(xiv) of the Act requires that a BOC make “telecommunications services * * * available for resale in accordance with the requirements of section 251(c)(4) and section 252(d)(3).” Based on the evidence in the record, we conclude that Qwest satisfies the requirements of this checklist item. Qwest has demonstrated that it has satisfied its legal obligation to make retail telecommunications services available for resale to competitive LECs at wholesale rates. Although the Minnesota Commission did not reach consensus on this checklist item, the Commission concludes that Qwest does provide nondiscriminatory access to this checklist item.

11. Checklist Items 3, 5-13. An applicant under section 271 must demonstrate that it complies with item 3 (poles, ducts, and conduits), item 5 (unbundled transport) item 6 (unbundled local switching), item 7 (E911/operator services/directory assistance), item 8 (white pages), item 9 (numbering administration), item 10 (data bases and signaling), item 11 (number portability), item 12 (local dialing parity), and item 13 (reciprocal compensation). Based on the evidence in the record, and in accordance with Commission rules and orders concerning compliance with section 271 of the Act, the Commission concludes that Qwest demonstrates that it is in compliance with checklist items 3, 5, 6, 7, 8, 9, 10, 11, 12, and 13 in Minnesota.

Other Statutory Requirements

12. Section 272 Compliance. Qwest provides evidence that it maintains the same structural separation and nondiscrimination safeguards in Minnesota as it does in the other twelve states where Qwest has already received section 271 authority. Based on the record before us, the Commission concludes that Qwest has demonstrated that it will comply with the requirements of section 272.

13. Public Interest Analysis. The Commission concludes that approval of this application is consistent with the public interest. From its extensive review of the competitive checklist, which embodies the critical elements of market entry under the Act, the Commission finds that barriers to competitive entry in the local exchange markets have been removed and the local exchange markets in Minnesota are open to competition.

14. Section 271(d)(6) Enforcement Authority. The Commission also finds that the performance monitoring and enforcement mechanisms developed in Minnesota along with other factors, provide meaningful assurance that Qwest will continue to satisfy the requirements of section 271 after entering the long distance market.

15. Section 271(d)(6) Enforcement Authority. The Commission concludes that, working with the State Commission, we will closely monitor Qwest's post-approval compliance to ensure that Qwest continues to meet the conditions required for section 271 approval. It stands ready to exercise its various statutory enforcement powers quickly and decisively if there is evidence that market-opening conditions have not been sustained.

Federal Communications Commission.
Marlene H. Dortch,
Secretary.

[FR Doc. 03-16707 Filed 7-1-03; 8:45 am]

BILLING CODE 6712-01-P